DEPARTMENT OF STATE

[Public Notice: 9443]

Advisory Committee on Private International Law: Public Meeting on Online Dispute Resolution; Correction

AGENCY: Department of State.

ACTION: Notice of public meeting; correction.

SUMMARY: The Department of State published a Federal Register Notice on February 5, 2016, in 81 FR 6324 notifying the public of an Advisory meeting on Online Dispute Resolution being held on Tuesday February 23rd. The notice contained an incorrect day. This document corrects the day.

FOR FURTHER INFORMATION CONTACT: Tricia Smeltzer, Paralegal, Office of Private International Law, Office of Legal Advisor, Department of State; phone: 202-776-8423, email: smeltzertk@state.gov.

Correction

In the FR Doc 2016-02304, appearing on page 6324 in the Federal Register of February 5, 2015 (81 FR 6324), in the second column, in the third paragraph, in Time and Place, the first sentence is corrected to read:

The meeting of the ACPIL ODR Study Group will take place on Tuesday February 23, from 10 a.m. to 12 noon EST at 2430 E Street NW., South Building (SA 4S) (Navy Hill), Room 240.

Dated: February 9, 2016.
Timothy Schnabel,
Attorney—Adviser, Office of Private International Law, Office of the Legal Adviser, U.S. Department of State,

[FR Doc. 2016-03253 Filed 2-18-16; 8:45 am]

BILLING CODE 4710-08-P